INTERNATIONAL TRADE COMMISSION

[Inv. No. 337-TA-455]

In the Matter of Certain Network Interface Cards and Access Points for Use in Direct Sequence Spread Spectrum Wireless Local Area Networks and Products Containing Same; Notice of Change of Administrative Law Judge

AGENCY: International Trade Commission.

ACTION: Notice.

SUMMARY: Notice is hereby given that the U.S. International Trade Commission has determined to change the presiding administrative law judge (“ALJ”) in the above-captioned investigation from Judge Paul J. Luckern to Judge Debra Morriss. This change was effective as of April 10, 2001.

FOR FURTHER INFORMATION CONTACT: Tim Yaworski, Esq., Office of the General Counsel, U.S. International Trade Commission, 500 E Street, SW., Washington, DC 20436, tel. (202) 205-3096. Hearing impaired persons are advised that information on this matter can be obtained by contacting the Commission's TDD terminal at (202) 205-1810. General information concerning the Commission may also be obtained by accessing the Commission's internet server (http://www.usitc.gov). The public record for this investigation may be viewed on the Commission's electronic docket (EDIS-ON-LINE) at http://www.usitc.gov/eol/public.

SUPPLEMENTAL INFORMATION: The Commission instituted this investigation on April 3, 2001, based on a complaint filed by Proxim, Inc. Fourteen firms were named as respondents. Judge Paul J. Luckern was designated as the presiding ALJ.

Approximately three weeks earlier, on March 14, 2001, the Commission instituted Inv. No. 337-TA-454, Certain Set-Top Boxes and Components Thereof. Judge Debra Morriss was designated as the ALJ in that investigation.

On March 21, 2001, Judge Morriss issued a notice in which she advised the parties in the Set-Top Box investigation that she owns one of the accused set-top boxes and that she has an ongoing service contract with DISH Network, which she believes is related to EchoStar Communications Corporation, one of the respondents. In light of these disclosures, Judge Morriss stated that, if any party requested her disqualification as ALJ in the Set-Top Box investigation, she would seek to recuse herself from the investigation. She directed each party to file a written submission on her attorney-advisor by April 2, 2001, indicating whether the party requested her disqualification or, alternatively, whether the party consented to her continuing to preside over the investigation.

By notice issued on April 4, 2001, Commission Chairman Stephen Koplan directed that the submissions ordered by Judge Morriss be filed with the Commission by the close of business on April 6, 2001.

Respondents Pioneer Corporation, Pioneer North America, Inc., Pioneer Digital Technologies, Inc., and Pioneer New Media Technologies, Inc., subsequently filed a submission with the Commission requesting disqualification of Judge Morriss as ALJ.

On April 10, 2001, the Commission issued an order designating Judge Luckern as the presiding ALJ in the Set-Top Box investigation and an order designating Judge Morriss as the presiding ALJ in this investigation.

The authority for the Commission's action is contained in section 337 of the Tariff Act of 1930, as amended (19 U.S.C. 1337). Copies of the ALJ's notice, the Commission's order, and all other nonconfidential documents filed in connection with this investigation are or will be available for inspection during official business hours (8:45 a.m. to 5:15 p.m.) in the Office of the Secretary, U.S. International Trade Commission, 500 E Street, SW., Washington, DC 20436, telephone (202) 205-2000.

Issued: April 10, 2001.
By Order of the Commission.
Donna R. Koehnke,
Secretary.

[FR Doc. 01-9269 Filed 4-13-01; 8:45 am]

BILLING CODE 7020-02-U